FEDERAL RESERVE SYSTEM

12 CFR Part 261a

[Docket No. R-1102]

Rules Regarding Access to Personal Information Under the Privacy Act

Correction

In rule document 01-9432, beginning on page 19717 in the issue of Tuesday, April 17, 2001, make the following corrections:

§261a.13 [Corrected]

1. On page 19718, in the first column, in amendatory instruction 2., in the second line, “(e)(11)” should read “(c)(11)”.

2. On the same page, in the first column, in §261a.13, “paragraph (a)” should read “(b)”.

[FR Doc. C1-9432 Filed 4-24-01; 8:45 am]

BILLING CODE 1505-01-D

GENERAL SERVICES ADMINISTRATION

Public Building Services, Technical Support Division; Notice of Availability of Record of Decision

Correction

In notice document 01-8742 beginning on page 18641 in the issue of Tuesday, April 10, 2001, make the following correction:

On page 18641, in the third column, in the first paragraph, in the fourth line, the word “Inspection” should read “Intersection”.

[FR Doc. C1-8742 Filed 4-24-01; 8:45 am]

BILLING CODE 1505-01-D

SECURITIES AND EXCHANGE COMMISSION

[Release No. 34-44167; File No. SR-CHX-2001-05]

Self-Regulatory Organizations; Order Granting Accelerated Approval of Proposed Rule Change by the Chicago Stock Exchange, Incorporated, Relating to the Exchange's SuperMAX 2000 Price Improvement Algorithm

Correction

In notice document 01-9170 beginning on page 19265 in the issue of Friday, April 13, 2001, the release number is corrected as set forth above.

[FR Doc. C1-9170 Filed 4-24-01; 8:45 am]

BILLING CODE 1505-01-D